DEPARTMENT OF TRANSPORTATION

Federal Aviation Administration

14 CFR Part 39

[Docket No. FAA-2007-27712; Directorate Identifier 2006-NM-233-AD]

RIN 2120-AA64

Airworthiness Directives; Boeing Model 747 Airplanes

AGENCY: Federal Aviation Administration (FAA), Department of Transportation (DOT).

ACTION: Notice of proposed rulemaking (NPRM).

SUMMARY: The FAA proposes to supersede an existing airworthiness directive (AD) that applies to certain Boeing Model 747 series airplanes. The existing AD requires a one-time inspection of the potable water and drain lines in the cargo compartments for indications of overheating of the heater tape, exposed foam insulation, missing or damaged protective tape, or debris around the potable water fill and drain lines; and corrective action, if necessary. This proposed AD would require that the inspection of the water and drain lines be repetitively performed, using new service information, until new ribbon heaters are installed, which would terminate the repetitive inspections. This AD would also remove certain airplanes from the applicability. This proposed AD results from a report of a fire in the aft cargo compartment started by a potable water line heater tape. We are proposing this AD to prevent overheating of the heater tape on potable water fill and drain lines, which could ignite accumulated debris or contaminants on or near the potable water fill and drain lines, resulting in a fire in the airplane.

DATES: We must receive comments on this proposed AD by May 14, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, P.O. Box 3707, Seattle, Washington 98124-2207, for service information identified in this proposed AD.

FOR FURTHER INFORMATION CONTACT: Don Eiford, Aerospace Engineer, Cabin Safety and Environmental Systems Branch, ANM-150S, FAA, Seattle Aircraft Certification Office, 1601 Lind Avenue, SW., Renton, Washington 98057-3356; telephone (425) 917-6465; fax (425) 917-6590.

SUPPLEMENTARY INFORMATION:

Comments Invited

We invite you to submit any relevant written data, views, or arguments regarding this proposed AD. Send your comments to an address listed in the ADDRESSES section. Include the docket number “Docket No. FAA-2007-27712; Directorate Identifier 2006-NM-233-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), you can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On April 20, 2004, we issued AD 2004-09-10, amendment 39-13599 (69 FR 23647, April 30, 2004), for certain Boeing Model 747 series airplanes. That AD requires a one-time inspection of the potable water and drain lines in the forward and aft cargo compartments for indications of overheating of the heater tape, exposed foam insulation, missing or damaged protective tape, or debris around the potable water fill and drain lines; and corrective action, if necessary. That AD resulted from a report of a fire in the aft cargo compartment of a Boeing Model 767 series airplane due to heater tape on a water fill line overheating and igniting debris accumulated on or near the heater tape. Model 747 series airplanes have a configuration similar to that of the Model 767 and, under similar conditions, are subject to the same unsafe condition. We issued that AD to prevent overheating of the heater tape on potable water fill and drain lines, which could ignite accumulated debris or contaminants on or near the potable water fill and drain lines, and result in a fire in the airplane.

Actions Since Existing AD Was Issued

The preamble to AD 2004-09-10 explains that we considered the requirements “interim action” and were considering further rulemaking. We now have determined that further rulemaking is indeed necessary, and this proposed AD follows from that determination.

Relevant Service Information

We have reviewed Boeing Alert Service Bulletin 747-30A2080, Revision 2, dated September 14, 2006. The service bulletin describes procedures for the following actions:

• Repetitive inspections of the potable water supply and gray water drain lines for foreign object debris (FOD) and contamination;

• Removal of FOD and contamination on, near, or around the potable water supply and gray water drain lines;

• Repetitive inspections of the heater tape on the potable water supply and gray water drain lines for heat damage, exposed foam insulation, and missing/damaged protective tape;

• Replacement of all damaged heater tape;

• Covering of the exposed foam insulation with protective tape;

• Replacement of all missing or damaged protective tape; and

• Eventual replacement of the potable water supply and gray water drain line heater tape with new ribbon heaters, which eliminates the need for the repetitive inspections.

Accomplishing the actions specified in the service information is intended to adequately address the unsafe condition.

FAA's Determination and Requirements of the Proposed AD

We have evaluated all pertinent information and identified an unsafe condition that is likely to develop on other airplanes of the same type design. For this reason, we are proposing this AD, which would supersede AD 2004-09-10. This proposed AD would require accomplishing the actions specified in Boeing Alert Service Bulletin 747-30A2080, Revision 2, dated September 14, 2006, described previously.

Costs of Compliance

There are about 1,114 airplanes of the affected design in the worldwide fleet. The following table provides the estimated costs for U.S. operators to comply with this proposed AD, at an average labor rate of $80 per hour. The cost of parts is minimal.

Estimated Costs
Action | Group | Work hours | Cost per airplane | Number of U.S.- registered airplanes | Fleet cost by group
Inspection (cost per inspection cycle) | 1 | 3 | $240 | 113 | $27,120
| 2 (Config. 1) | 2 | 160 | 18 | 2,880
| 2 (Config. 2) | 2 | 160 | 17 | 2,720
| 3 | 3 | 240 | 2 | 480
| 4 | 3 | 240 | 0 | 0
| 5 | 2 | 160 | 0 | 0
Modification | 1 | 48 | 3,840 | 113 | 433,920
| 2 (Config. 1) | 7 | 560 | 18 | 10,080
| 2 (Config. 2) | 15 | 1,200 | 17 | 20,400
| 2 (Config. 3) | 8 | 640 | 17 | 10,880
| 3 | 60 | 4,800 | 2 | 9,600
| 4 | 61 | 4,880 | 0 | 0
| 5 | 27 | 2,160 | 0 | 0

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13599 (69 FR 23647, April 30, 2004) and adding the following new airworthiness directive (AD):

Boeing: Docket No. FAA-2007-27712; Directorate Identifier 2006-NM-233-AD.

Comments Due Date

(a) The FAA must receive comments on this AD action by May 14, 2007.

Affected ADs

(b) This AD supersedes AD 2004-09-10.

Applicability

(c) This AD applies to Boeing Model 747 airplanes, certificated in any category, as identified in Boeing Alert Service Bulletin 747-30A2080, Revision 2, dated September 14, 2006.

Note 1: For the purposes of this AD, a cargo area that is not fully enclosed or not enclosed, as identified in Boeing Alert Service Bulletin 747-30A2080, Revision 2, dated September 14, 2006, is a floor without panels installed between all roller trays in the cargo compartment.

Unsafe Condition

(d) This AD results from a report of a fire in the aft cargo compartment started by a potable water line heater tape. We are issuing this AD to prevent overheating of the heater tape on potable water fill and drain lines, which could ignite accumulated debris or contaminants on or near the potable water fill and drain lines, resulting in a fire in the airplane.

Compliance

(e) You are responsible for having the actions required by this AD performed within the compliance times specified, unless the actions have already been done.

Inspections

(f) At the later of the times specified in paragraphs (f)(1) and (f)(2) of this AD: Do the initial inspections specified in Table 1 of this AD in accordance with the Accomplishment Instructions of Boeing Alert Service Bulletin 747-30A2080, Revision 2, dated September 14, 2006. Correct any discrepancy before further flight in accordance with the service bulletin. Repeat the inspections at the applicable time specified in Table 1 of this AD.

(1) Within 18 calendar months since the date of issuance of the original standard airworthiness certificate or within 18 calendar months since the date of issuance of the original export certificate of airworthiness.

(2) Within 90 calendar days after the effective date of this AD.

Table 1.—Inspections
Do a general visual inspection of the forward and aft cargo compartments, as applicable, for— | And repeat the inspection at intervals not to exceed— | Until—
Foreign object debris (FOD) or contamination on, near, or around the potable water supply and gray water drain lines | 600 flight hours | The heater tape replacement required by paragraph (g) of this AD is done.
Indications of heat damage, exposed foam insulation, or missing or damaged protective tape of all heater tape on the potable water supply and gray water drain lines | 1,800 flight hours | The heater tape replacement required by paragraph (g) of this AD is done.

Terminating Action

(g) At the applicable time specified in Table 2 of this AD: Replace the heater tape on the potable water supply and gray water drain lines of the forward and aft cargo compartments, as applicable, with Adel Wiggins ribbon heaters. Do the actions in accordance with the Accomplishment Instructions of Boeing Alert Service Bulletin 747-30A2080, Revision 2, dated September 14, 2006. This replacement terminates the requirements of paragraph (f) of this AD.

Table 2.—Compliance Time for Terminating Action
For airplanes on which the heater tape has— | Replace the heater tape at the later of—
(1) Not been replaced before the effective date of this AD in accordance with Boeing Alert Service Bulletin 747-30A2079, dated December 12, 2002; Revision 1, dated October 16, 2003; or Revision 2, dated December 16, 2004 | Within 42 months since the date of issuance of the original standard airworthiness certificate or the date of issuance of the original export certificate of airworthiness, whichever occurs first | 24 months after the effective date of this AD.
(2) Been replaced before the effective date of this AD in accordance with Boeing Alert Service Bulletin 747-30A2079, dated December 12, 2002; Revision 1, dated October 16, 2003; or Revision 2, dated December 16, 2004 | Within 42 months after the heater tape was replaced | 24 months after the effective date of this AD.

Provisions for Previous Accomplished Work

(h) Actions done before the effective date of this AD in accordance with Boeing Alert Service Bulletin 747-30A2080—either the original version dated December 16, 2004, or Revision 1, dated August 18, 2005—are acceptable for compliance with the corresponding requirements of this AD; except, for Group 2, Configuration 2 and Configuration 3 airplanes, as defined in Revision 2 of the service bulletin, additional work is required in the forward cargo compartment, as specified in Parts 1, 2, and 3 of the service bulletin and required by this AD.

Alternative Methods of Compliance (AMOCs)

(i)(1) The Manager, Seattle Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on March 20, 2007.
Ali Bahrami,
Manager, Transport Airplane Directorate, Aircraft Certification Service.

[FR Doc. E7-5667 Filed 3-28-07; 8:45 am]

BILLING CODE 4910-13-P